DEPARTMENT OF THE INTERIOR

Bureau of Reclamation

Central Valley Project Improvement Act, Criteria for Evaluating Water Conservation Plans

AGENCY: Bureau of Reclamation, Interior.

ACTION: Notice.

SUMMARY: To meet the requirements of the Central Valley Project Improvement Act of 1992 (CVPIA) and the Reclamation Reform Act of 1982 (RRA), the Bureau of Reclamation (Reclamation) developed and published the Criteria for Evaluating Water Management Plans (Criteria). Note: For the purpose of this announcement, Water Management Plans are considered the same as Water Conservation Plans (Plans).

DATES: The final version is now available.

ADDRESSES: For copies contact Leslie Barbre, Bureau of Reclamation, 2800 Cottage Way, Sacramento, California 95825, 916-978-5232 (TDD 978-5608), or e-mail at lbarbre@mp.usbr.gov. Bryce White, Bureau of Reclamation, 2800 Cottage Way, Sacramento, California 95825, 916-978-5208 (TDD 978-5608), or e-mail at bwhite@mp.usbr.gov.

FOR FURTHER INFORMATION CONTACT: To be placed on a mailing list for any subsequent information, please contact Leslie Barbre or Bryce White at the e-mail address or telephone number above.

SUPPLEMENTARY INFORMATION: We are notifying the public that the 2002 revision of the Criteria is final. Section 3405(e) of the CVPIA (Title 34 Pub. L. 102-575), requires the Secretary of the Interior to establish and administer an office on Central Valley Project water conservation best management practices (BMPs) that shall develop Criteria for evaluating the adequacy of all Plans developed by project contractors, including those Plans required by section 210 of the RRA. Also, according to section 3405(e)(1), the Criteria must be developed “* * * with the purpose of promoting the highest level of water use efficiency reasonably achievable by project contractors using best available cost-effective technology and best management practices.”

The Criteria states that all parties (Contractors) that contract with Reclamation for water supplies (except any contractor who receives under 2,000 acre feet, municipal and industrial contracts under 3,300 people served, and agricultural contracts under 2,000 irrigable acres) must prepare Plans that contain the following information:

1. Description of the District

2. Inventory of Water Resources

3. BMPs for Agricultural Contractors

4. BMPs for Urban Contractors

5. Plan Implementation

6. Exemption Process

7. Regional Criteria

8. Five-Year Revisions

Reclamation will evaluate Plans based on the Criteria. The CVPIA requires Reclamation to evaluate, and revise if necessary, the Criteria every 3 years. The Criteria were previously revised in 1996 and 1999.

Public comment on revision of the 2002 Criteria was received and generally incorporated. No significant changes were made to the draft Criteria. A copy can be found at the following Web site: http://www.mp.usbr.gov/watershare/documents/files/cvpia/final2002cvpiacriteria.pdf. A copy can also be obtained by contacting persons at the address below. The 2002 Criteria will now be used to evaluate Plans submitted after the date of this publication

Dated: May 1, 2003.
Donna E. Tegelman,
Regional Resources Manager, Mid-Pacific Region.

[FR Doc. 03-11470 Filed 5-7-03; 8:45 am]

BILLING CODE 4310-MN-P